COMMISSION ON CIVIL RIGHTS

Hearing on the Department of Justice's Actions Related to the New Black Panther Party Litigation and its Enforcement of Section 11(b) of the Voting Rights Act

Correction

Notice document 2010-3168 appearing on page 7441 in the issue of Friday, February 19, 2010 was included in error. The document was withdrawn and should not have appeared in the issue.

[FR Doc. C1-2010-3168 Filed 2-22-10; 12:00 pm]

BILLING CODE 1505-01-D